ENVIRONMENTAL PROTECTION AGENCY

[FRL-8174-3; Docket ID No. EPA-HQ-ORD-2006-0134]

A Framework for Assessing Health Risks of Environmental Exposures to Children

AGENCY: Environmental Protection Agency (EPA).

ACTION: Notice of Peer-Review Workshop.

SUMMARY: EPA is announcing that Eastern Research Group, Inc., an EPA contractor for external scientific peer review, plans to convene an independent panel of experts and organize and conduct an external peer review workshop to review the external review draft document titled, “A Framework for Assessing Health Risks of Environmental Exposures to Children” (EPA/600/R-05/093A). The draft document was prepared by the National Center for Environmental Assessment (NCEA) within EPA's Office of Research and Development. This document is available on the Internet at: http://cfpub.epa.gov/ncea/cfm/recordisplay/cfm?deid=150263.

EPA is releasing this draft document solely for the purpose of pre-dissemination peer review under applicable information quality guidelines. This document has not been formally disseminated by EPA. It does not represent and should not be construed to represent any Agency policy or determination. Eastern Research Group, Inc. invites the public to register to attend this workshop as observers. In addition, Eastern Research Group, Inc. invites the public to give oral and/or provide written comments at the workshop regarding the draft document under review. The draft document and EPA's peer review charge are available primarily via the Internet on NCEA's home page under the Recent Additions and the Data and Publications menus at http://www.epa.gov/ncea. On March 14, 2006, EPA announced a 45-day public comment period on the draft document (71 FR 13125). The public comment period and the external peer review workshop are separate processes that provide opportunities for all interested parties to comment on the document. EPA has provided Eastern Research Group, Inc. with the public comments EPA received. In preparing a final report, EPA will consider public comments it received during the public comment period and will consider the Eastern Research Group, Inc. report of the comments and recommendations from the external peer-review workshop.

DATES: The peer-review panel workshop will begin on June 6, 2006, at 8:30 a.m. and end at Noon on June 7, 2006.

ADDRESSES: The peer-review workshop will be held at Hyatt Regency on Capitol Hill, 400 New Jersey Avenue, NW. The EPA contractor, Eastern Research Group, Inc., is organizing, convening, and conducting the peer review workshop. To attend the workshop, register by May 31, 2006, by calling Eastern Research Group, Inc. at 781-674-7374, sending a facsimile to 781-674-2906, or sending an e-mail to meetings@erg.com. You may also register via the Internet at https://www2.ergweb.com/projects/conferences/ncea/childhra.htm. Members of the public may attend the workshop as observers, and there will be a limited time for comments from the public in the afternoon. Please let Eastern Research Group, Inc. know if you wish to make comments during the workshop. Space is limited, and reservations will be accepted on a first-come, first-served basis.

The draft “A Framework for Assessing Health Risks of Environmental Exposures to Children” is available primarily via the Internet on the National Center for Environmental Assessment's home page under the Recent Additions and the Data and Publications menus at http://www.epa.gov/ncea. A limited number of paper copies are available from the Technical Information Staff, NCEA-W; telephone: 202-564-3261; facsimile: 202-565-0050. If you are requesting a paper copy, please provide your name, mailing address, and the document title, “A Framework for Assessing Health Risks of Environmental Exposures to Children”. Copies are not available from Eastern Research Group, Inc.

FOR FURTHER INFORMATION CONTACT: Questions regarding information, registration, and logistics for the external peer-review workshop should be directed to Eastern Research Group, Inc., 100 Hartwell Avenue, Lexington, MA 02421-3136; telephone: 781-674-7260; facsimile: 781-674-2906; e-mail erin.pittorino@erg.com.

For information on the public comment period, contact the Office of Environmental Information Docket; telephone: 202-566-1752; facsimile: 202-566-1753; or e-mail: ORD.Docket@epa.gov.

If you need technical information about the document, please contact Stan Barone Jr., National Center for Environmental Assessment (NCEA); telephone: 202-564-3308; facsimile: 202-565-0076; e-mail barone.stan@epa.gov.

SUPPLEMENTARY INFORMATION:

I. Information About the Document

Over the past decade there has been a dramatic increase in the recognition and public health concern for the vulnerability of children to exposure to environmental agents. Children have unusual patterns of exposure and have vulnerabilities to chemical agents that are quite distinct from those of adults, and thus require special consideration in risk assessment. Children often have disproportionately higher exposures to certain environmental toxicants because, pound-for-pound of body weight, children have higher food and water intake and breathe more air than adults. Metabolic pathways in the young, especially in the first few months after birth, are immature, and the ability to detoxify environmental agents is different from that of adults. In addition, behavior and activity patterns of children often magnify their exposures. These factors imply that children are likely to have more substantial exposures than adults to certain environmental agents. This document attempts to organize and present current knowledge and practices in a programmatic framework for assessing human health risks from exposures to environmental agents from prior to conception through adolescence.

It describes this framework within the current Agency risk assessment paradigm, and includes problem formulation, analysis and risk characterization as discrete steps in the process. Moreover, this document focuses on mode of action as a context for considering the toxicokinetic and toxicodynamic differences between children and adults, and considers approaches for risk assessment in the context of uncertainty and variability in exposure and critical windows of development.

Dated: May 18, 2006.
Peter W. Preuss,
Director, National Center for Environmental Assessment.

[FR Doc. 06-4817 Filed 5-23-06; 8:45 am]

BILLING CODE 6560-50-P